DEPARTMENT OF EDUCATION

Privacy Act of 1974; System of Records

AGENCY: Federal Student Aid, U.S. Department of Education.

ACTION: Notice of an altered system of records.

SUMMARY: In accordance with the Privacy Act of 1974, as amended (Privacy Act), 5 United States Code (U.S.C.) 552a, the Department of Education (Department) publishes this notice of an altered system of records entitled “Student Aid Internet Gateway (SAIG), Participation Management System” for the purpose of providing telecommunications support for the delivery and administration of Federal student aid programs authorized under Title IV of the Higher Education Act of 1965, as amended (HEA). This system stores personally identifiable data from individuals who elect to participate in the transfer of electronic data via the SAIG, or enroll in the Financial Aid Administration (FAA) Online Access system for access to either the Central Processing System (CPS) Online or eCampus Online. (The eCampus-Based Web site allows users to submit FISAP information, access Campus-Based account data, and view reports.) The Department is revising this system of records as a result of a system application change and other technical changes to the Title IV Wide Area Network (Title IV WAN 18-11-10) system notice. This altered system of records notice also changes the name of the system from Title IV WAN to Student Aid Internet Gateway (SAIG), Participation Management System; adds two new routine use disclosures; deletes number two under the “Purposes” statement, which refers to billing for customer service calls and ISIR data requests; and revises the safeguards and record retention and disposal sections to reflect the current safeguards and record retentions for the paper and electronic (Web-based) records and information.

DATES: The Department seeks comments on the altered system of records described in this notice, in accordance with the requirements of the Privacy Act. We must receive your comments on the proposed routine uses for this system of records on or before February 28, 2005.

The Department has filed a report describing the altered system of records with the Chair of the Senate Committee on Governmental Affairs, the Chair of the House Committee on Government Reform, and the Administrator of the Office of Information and Regulatory Affairs, Office of Management and Budget (OMB), on January 24, 2005. This altered system of records will become effective at the later date of: (1) The expiration of the 40-day period for OMB review on March 7, 2005 or (2) February 28, 2005, unless the system of records needs to be changed as a result of public comment or OMB review.

ADDRESSES: Address all comments on the proposed routine uses of this system, and requests for information about this system, to Gregory James, Application Processing, Students Channel, Federal Student Aid, U.S. Department of Education, Union Center Plaza, 830 First Street, NE., Room 31C4, Washington, DC 20202.

If you prefer to send your comments through the Internet, use the following address: Comments@ed.gov. You must include the term “SAIG comments” in the subject line of your electronic message.

During and after the comment period, you may inspect all comments about this notice at Federal Student Aid (FSA), U.S. Department of Education, Union Center Plaza, 830 First Street, NE., Room 31C4, Washington, DC 20202 between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this notice.

If you want to schedule an appointment for this type of aid, please contact the person listed under FOR FURTHER INFORMATION CONTACT.

FOR FURTHER INFORMATION CONTACT: Gregory James, Telephone: (202) 377-3386. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Introduction

The Privacy Act (5 U.S.C. 552a(e)(4)) requires the Department to publish in the Federal Register a notice of altered systems of records managed by the Department. The Department's regulations implementing the Privacy Act are contained in the Code of Federal Regulations (CFR) in 34 CFR part 5b.

The Privacy Act applies to a record about an individual that is maintained in a system of records from which information is retrieved by a unique identifier associated with each individual, such as a name or social security number. The information about each individual is called a “record,” and the system, whether manual or computer-driven, is called a “system of records.” The Privacy Act requires each agency to publish a systems of records notice in the Federal Register and to prepare reports to OMB and Congressional Committees whenever the agency publishes a new or “altered” system of records.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 24, 2005.
Theresa S. Shaw,
Chief Operating Officer, Federal Student Aid.

For the reasons discussed in the preamble, the Chief Operating Officer, Federal Student Aid, U.S. Department of Education, publishes a notice of an altered system of records to read as follows:

18-11-10

System Name:

Student Aid Internet Gateway (SAIG), Participant Management System.

Security Classification:

None.

System Location:

Pearson Government Solutions, 2450 Oakdale Boulavard, Coralville, Iowa 52241.

Virtual Data Center (VDC), c/o Computer Science Corporation, 71 Deerfield Lane, Meriden, CT 06450-7151.

Categories of Individuals Covered by the System:

This system contains records on those individuals who elect to participate in the electronic exchange of data with the Department of Education via the SAIG, or enroll in the Financial Aid Administration system for access to either the Central Processing System (CPS) Online or eCampus Online. Those eligible to participate include: financial aid administrators, authorized employees or representatives of postsecondary institutions, authorized employees or representatives of third-party servicers, authorized employees or representatives of lenders, authorized employees or representatives of guaranty agencies, and authorized employees or representatives of state scholarship programs.

Categories of Records in the System:

This system consists of demographic contact information that individuals affiliated with an authorized entity provide to request electronic access to Title IV Student Aid Systems.

Demographic information includes the individual's name, address, and authentication information (mother's maiden name, Social Security Number, and date of birth).

Authority for Maintenance of the System:

20 U.S.C. 1082, 1085, 1094, 1099C, Executive Order 9937.

Purpose(s):

The SAIG, Participant Management System performs the following: processes stored data from the SAIG Enrollment Forms (Web and paper versions); maintains the SAIG Enrollment Web site (named FSAWebEnrollment.ed.gov); manages the assignment of individual ID numbers (TG Numbers); and authenticate user's of the CPS Online and e-Campus Online systems.

Routine Uses of Records Maintained in the System, Including Categories of Users and the Purposes of Such Uses:

The Department may disclose information contained in a record in this system of records under the routine uses listed in this system of records without the consent of the individual if the disclosure is compatible with the purposes for which the record was collected.

These disclosures may be made on a case-by-case basis or, if the Department has complied with the computer matching requirements of the Privacy Act, under a computer matching agreement.

(1) Program disclosures. The Department may disclose records for the following program purposes:

(a) Federal Direct Loan Program—For participation in the Direct Loan Program including the submission of origination records and the reporting of disbursement records that require the transmission of data over the SAIG.

(b) Central Processing System (CPS)—Student application data including corrections can be entered and obtained over the SAIG.

(c) Federal Pell Grant—Program origination and disbursement records must be reported electronically via the SAIG.

(d) Fiscal Operations Report and Application to Participate in the Federal Campus-Based Programs (FISAP)—Participating institutions are required to submit their annual Fiscal Operations and Application to Participate to the Department via the SAIG.

(e) National Student Loan Data Service (NSLDS)—Institutions must be provided access to NSLDS to perform online Enrollment Reporting (formerly Student Status Confirmation Reporting (SSCR)) for updating student enrollment data, and overpayment updates. Additionally, institutions will be able to receive their cohort default rate (CDR) notification (which includes eligibility letters and loan record detail reports) via the SAIG.

(f) Lender Reporting System (LaRS)—Lender institutions or their servicers have the option to send financial reporting information to Federal Student Aid's Financial Management System via SAIG.

(2) Freedom of Information Act (FOIA) advice disclosure. The Department may disclose records to the Department of Justice (DOJ) and the Office of Management and Budget if the Department seeks advice regarding whether records maintained in the system of records are required to be released under the FOIA and the Privacy Act of 1974.

(3) Disclosure to the DOJ. The Department May disclose records to the DOJ to the extent necessary for obtaining DOJ advice on any matter relevant to an audit, inspection, or other inquiry related to the programs covered by this system.

(4) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(5) Litigation and Alternative Dispute Resolution (ADR) disclosures.

(a) Introduction. In the event that one of the parties listed below is involved in litigation or ADR, or has an interest in litigation or ADR, the Department may disclose certain records to the parties described in paragraphs (b), (c), and (d) of this routine use under the conditions specified in those paragraphs:

(i) The Department of Education, or any component of the Department; or

(ii) Any Department employee in his or her official capacity; or

(iii) Any Department employee in his or her individual capacity if the Department of Justice (DOJ) has agreed to provide or arrange for representation for the employee;

(iv) Any Department employee in his or her individual capacity where the agency has agreed to represent the employee; or

(v) The United States where the Department determines that the litigation is likely to affect the Department or any of its components.

(b) Disclosure to the Department of Justice (DOJ). If the Department determines that disclosure of certain records to the DOJ, or attorneys engaged by DOJ, is relevant and necessary to litigation or ADR, and is compatible with the purpose for which the records were collected, the Department may disclose those records as a routine use to the DOJ.

(c) Adjudicative disclosures. If the Department determines that disclosure of certain records to an adjudicative body before which the Department is authorized to appear, an individual or entity designated by the Department or otherwise empowered to resolve or mediate disputes is relevant and necessary to the litigation or ADR, the Department may disclose those records as a routine use to the adjudicative body, individual, or entity.

(d) Parties, counsels, representatives and witnesses. If the Department determines that disclosure of certain records to a party, counsel, representative or witness in an administrative proceeding is relevant and necessary to the litigation, the Department may disclose those records as a routine use to the party, counsel, representative or witness.

(6) Research disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(7) Congressional Member disclosure. The Department may disclose records to a member of Congress from the record of an individual in response to an inquiry from the member made at the written request of that individual. The Member's right to the information is no greater than the right of the individual who requested it.

(8) Disclosure for use by law enforcement agencies. The Department may disclose information to any Federal, State, local or other agencies responsible for enforcing, investigating, or prosecuting violations of administrative, civil, or criminal law or regulation if that information is relevant to any enforcement, regulatory, investigative or prosecutorial responsibility within the entity's jurisdiction.

(9) Enforcement disclosure. In the event that information in this system of records indicates, either on its face or in connection with other information, a violation or potential violation of any applicable statute, regulation, or order of a competent authority, the Department may disclose the relevant records to the appropriate agency, whether foreign, Federal, State, tribal, or local, charged with the responsibility of investigating or prosecuting that violation or charged with enforcing or implementing the statute, Executive Order, rule, regulation, or order issued pursuant thereto.

(10) Employment, benefit, and contracting disclosure. (a) Decisions by the Department. The Department may disclose a record to a Federal, State, or local agency maintaining civil, criminal, or other relevant enforcement or other pertinent records, or to another public authority or professional organization, if necessary to obtain information relevant to a decision concerning the hiring or retention of an employee or other personnel action, the issuance of a security clearance, the letting of a contract, or the issuance of a license, grant, or other benefit.

(b) Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(11) Employee grievance, complaint or conduct disclosure. The Department may disclose a record in this system of records to another agency of the Federal Government if the record is relevant to one of the following proceedings regarding a present or former employee of the Department: Complaint, grievance, discipline or competence determination proceedings. The disclosure may only be made during the course of the proceeding.

(12) Labor organization disclosure. The Department may disclose records from this system of records to an arbitrator to resolve disputes under a negotiated grievance procedure or to officials of labor organizations recognized under 5 U.S.C. chapter 71 when relevant and necessary to their duties of exclusive representation.

Disclosure to Consumer Reporting Agencies:

Disclosure pursuant to 5 U.S.C. 552a(b)(12): The Department may disclose to a consumer reporting agency information regarding a claim, which is determined to be valid and overdue as follows: (1) The name, address, and other information necessary to establish the identity of the individual responsible for the claim; and (2) the program under which the claim arose. The Department may disclose the information specified in this paragraph under 5 U.S.C. 552a(b)(12) and the procedures contained in subsection 31 U.S.C. 3711(e).

A consumer-reporting agency to which these disclosures may be made is defined at 31 U.S.C. 3701(a)(3).

Policies and Practices for Storing, Retrieving, Accessing, Retaining, and Disposing of Records in the System:

Storage:

Records are maintained on a computer database as well as in hard copy. All hard copy forms are loaded into an imaging system accessible through internal systems only. Paper is stored in file cabinets at the Pearson Government Solutions facility in Coralville, Iowa.

Retrievability:

The records are retrieved by the names of the individual user and/or unique system User ID.

Safeguards:

All users of this system will have a unique user ID with a personal identifier.

This system does not use persistent cookies (data that a Web server causes to be placed on a user's hard drive) to implement personalization. It is the policy of the Department to prohibit the use of persistent cookies on Department Web sites except when: there is a compelling need; there are appropriate safeguards in place; the use is personally approved by the Secretary of Education; and there is clear and conspicuous notice to the public.

All physical access to the Department site, and the sites of Department contractors where this system of records is maintained, is controlled and monitored by security personnel who check each individual entering the building for his or her employee or visitor badge.

The computer system employed by the Department offers a high degree of resistance to tampering and circumvention. This security system limits data access to Department and contract staff on a “need-to-know” basis, and controls individual users” ability to access and alter records within the system.

All users of this system of records are given a unique user ID with personal identifiers.

All interactions by individual users with the system are recorded.

Retention and Disposal:

SAIG, Participation Management enrollment forms will be retained by the manager of the SAIG Participation Management System (Pearson Government Solutions) for 6 years after the expiration of the contract.

System Manager(s) and Address:

Sue O'Flaherty, Deputy Director, Application Processing, U.S. Department of Education, Students Channel, Federal Student Aid, Union Center Plaza, 830 First Street NE., Room 32E2, Washington, DC 20202.

Notification Procedure:

If you wish to determine whether a record exists regarding you in the system of records, contact the system manager. Your request must meet the requirements of the Department's Privacy Act regulations at 34 CFR 5b.5, including proof of identity.

Record Access Procedures:

If you wish to gain access to a record regarding you in the system of records, contact the system manager. Your request must meet the requirements of the Department's Privacy Act regulations at 34 CFR 5b.5, including proof of identity.

Contesting Record Procedures:

If you wish to contest the content of a record regarding you in the system of records, contact the system manager. Your request must meet the requirements of the Department's Privacy Act regulations at 34 CFR 5b.7.

Record Source Categories:

Information in this system is obtained from the following entities: financial aid administrators, postsecondary institutions, third-party servicers, lenders, guaranty agencies, and state scholarship programs.

System Exempted From Certain Provision of the Privacy Act:

None.

[FR Doc. 05-1651 Filed 1-27-05; 8:45 am]

BILLING CODE 4000-01-P